DEPARTMENT OF JUSTICE

Antitrust Division

Notice Pursuant to the National Cooperative Research and Production Act of 1993—Test and Diagnostics Consortium, Inc.

Notice is hereby given that, on July 23, 2001, pursuant to Section 6(a) of the National Cooperative Research and Production Act of 1993, 15 U.S.C. 4301 et. seq. (“the Act”), Test and Diagnostics Consortium, Inc. (“TDC”) has filed written notifications simultaneously with the Attorney General and the Federal Trade Commission disclosing changes in its membership status. The notifications were filed for the purpose of extending the Act's provisions limiting the recovery of antitrust plaintiffs to actual damages under specified circumstances. Specifically, AverStar, Inc., Burlington, MA; Boeing, Inc., Seattle, WA; Geotest-Marvin Test Systems, Inc., Santa Ana, CA; Hamilton Software, Inc., Santa Rosa, CA; Honeywell International, Inc., Morristown, NJ; Hughes Space & Communication Company, El Segundo, CA; Instant Knowledge, Inc., Charlottesville, VA; MAC Panel, High Point, NC; Sandia National Laboratories, Albuquerque, NM; Support Systems Associates, Inc., Melbourne, FL; TYX Corporation, Reston, VA; Tern Technology, Inc., Hauppauge, NY; TestMart, Inc., San Bruno, CA; Transportation Technology Center, Inc., Pueblo, CO; and WinSoft, Inc., Santa Ana, CA have been added as parties to this venture.

No other changes have been made in either the membership or planned activity of the group research project. Membership in this group research project remains open, and TDC intends to file additional written notification disclosing all changes in membership.

On November 12, 1999, TDC filed its original notification pursuant to Section 6(a) of the Act. The Department of Justice published a notice in the Federal Register pursuant to Section 6(b) of the Act on June 21, 2000 (65 FR 38579).

The last notification was filed with the Department on March 1, 2000. A notice was published in the Federal Register pursuant to Section 6(b) of the Act on March 29, 2001 (66 FR17205).

Constance K. Robinson,
Director of Operations, Antitrust Division.

[FR Doc. 01-21644 Filed 8-27-01; 8:45 am]

BILLING CODE 4410-11-M